DEPARTMENT OF JUSTICE

Notice of Lodging of Stipulation and Order of Settlement Under the Clean Water Act

Notice is hereby given that on April 11, 2008, a proposed Stipulation and Order of Settlement in United States v. Puget Sound Energy, Inc., No. C08-5223-FDB, was lodged with the United States District Court for the Western District of Washington.

The United States' complaint in this civil action alleged that on November 3, 2006, the Crystal Mountain Emergency Generation Facility, an electrical generating facility owned and operated by Puget Sound Energy, Inc. (“PSE”) in Pierce County, Washington, discharged approximately 429 barrels of diesel fuel into waters of the United States or adjoining shorelines. The complaint sought the imposition of a civil penalty pursuant to section 311(b)(3) of the Clean Water Act, 33 U.S.C. 1321(b)(3). Under the Stipulation and Order of Settlement, PSE will pay a civil penalty of $471,900.00.

For thirty (30) days after the date of this publication, the Department of Justice will receive comments relating to the Stipulation and Order of Settlement. Comments should be addressed to the Assistant Attorney General, Environment and Natural Resources Division, and either e-mailed to pubcomment-ees.enrd@usdoj.gov or mailed to P.O. Box 7611, U.S. Department of Justice, Washington, DC 20044-7611. In either case, the comments should refer to United States v. Puget Sound Energy, Inc., No. C08-5223-FDB (W.D. Wash.), D.J. Ref. No. 90-5-1-1-09177.

During the comment period, the Stipulation and Order of Settlement may be examined at the Region 10 office of the United States Environmental Protection Agency, 1200 Sixth Avenue, Seattle, Washington, and on the following Department of Justice Web site: http://www.usdoj.gov/enrd/Consent_Decrees.html. A copy of the Stipulation and Order of Settlement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $1.25 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-8274 Filed 4-16-08; 8:45 am]

BILLING CODE 4410-15-P